OVERSEAS PRIVATE INVESTMENT CORPORATION

Sunshine Act Notice; Special Meetings of the Board of Directors

TIME AND DATES: Wednesday, August 14, 2013, 3 p.m. Monday, August 19, 2013. (CLOSED)

PLACE: Offices of the Corporation, 1100 New York Avenue NW., Washington, DC.

STATUS: Meetings will commence at 3 p.m. (approx.).

MATTER TO BE CONSIDERED: 1. Insurance Project—Egypt.

CONTACT PERSON FOR INFORMATION: Information on the meetings may be obtained from Connie M. Downs at (202) 336-8438.

August 5, 2013.
Connie M. Downs,
Corporate Secretary, Overseas Private Investment Corporation.

[FR Doc. 2013-19207 Filed 8-5-13; 4:15 pm]

BILLING CODE 3210-01-P